DEPARTMENT OF TRANSPORTATION

Federal Aviation Administration

RTCA Special Committee 172: future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA, Special Committee 172: Future Air-Ground Communications in the VHF Aeronautical Data Band (118-137 MHz).

DATES: The meeting will be held November 5-7, 2002 from 9 am to 5 pm each day.

ADDRESSES: The meeting will be held at William J. Hughes Technical Center, Atlantic City Airport, ACB Conference Room, 2nd Floor, Column J267, Atlantic City, NJ

FOR FURTHER INFORMATION CONTACT: (1) RTCA Secretariat, 1828 L Street, SW, Washington, DC, 20036; telephone (202) 833-9339; fax (202) 833-9434; Web site http://www.rtea.org. (2) FAA Technical Center Contact; Mr. Andy Colon; telephone (609) 485-4348; e-mail andy.colon@tc.faa.gov.

SUPPLEMENTARY INFORMATION: Pursuant to section 10(a)(2) of the Federal Advisory Committee Act Pub. L. 92-463, 5 U.S.C., Appendix (2), notice is hereby given for a Special Committee 172 meeting. The agenda will include:

• November 5

• Opening plenary Session (Welcome and Introductory Remarks, Review of Agenda, Review Summary of previous meeting)

• Form Working Group (WG)-2—continue plan of action and development for DO-224B, VHF Digital Link Minimum Aviation system Performance Standard

• November 6

• Continue in WG-2

• Reconvene Plenary to:

• Review Status of DO-271A, Minimum Operational Performance Standards for Aircraft VDL Mode 3 Transceiver Operating in the Frequency Range 117.975-137.000 MHz, and DO-224A change 2, Signal-In-Space Minimum Aviation System Performance Standards (MASPS) for Advanced VHF Digital Data Communications Including Compatibility with Digital Voice Techniques at the Program Management Council Meeting

• Review of Relevant International Activities

• EUROCAE WG-47 status and issues

• Others as appropriate

• Closing Plenary Session (Other Business, Date and Place of Next Meeting, Adjourn)

• November 7

• NEXCOM Demonstrations. For advance arrangements, contact the on-site representative.

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on October 9, 2002.
Janice L. Peters,
FAA Special Assistant, RTCA Advisory Committee.

[FR Doc. 02-27038 Filed 10-22-02; 8:45 am]

BILLING CODE 4910-13-M